DEPARTMENT OF ENERGY

Federal Energy Regulatory Commission

[Project No. 14851-003]

White Pine Waterpower, LLC; Notice of Application Accepted for Filing, Scoping Meetings, and Environmental Site Review; Soliciting Motions To Intervene and Protests; and Soliciting Scoping Comments

Take notice that the following application has been filed with the Commission and is available for public inspection.

a. Type of Application: Original Major License.

b. Project No.: P-14851-003.

c. Date filed: February 27, 2023.

d. Applicant: rPlus Hydro, LLLP, on behalf of White Pine Waterpower, LLC (White Pine Waterpower).

e. Name of Project: White Pine Pumped Storage Project (White Pine Project or project).

f. Location: The proposed project would be located approximately 8 miles northeast of the City of Ely, in White Pine County, Nevada. The project would occupy 1,096.01 acres of Federal land managed by the U.S. Bureau of Land Management.

g. Filed Pursuant to: Federal Power Act 16 U.S.C. 791(a)-825(r).

h. Applicant Contact: Mr. Greg Copeland, Program Manager for rPlus Hydro, LLLP. Address: White Pine Waterpower, LLC c/o rPlus Hydro, LLLP 201 S Main St., Suite 2100, Salt Lake City, Utah 84111. Phone: (801) 759-2223. Email: gcopeland@rplusenergies.com.

i. FERC Contact: Evan Williams, (202) 502-8462, or email at evan.williams@ferc.gov.

j. Deadline for filing scoping comments: November 22, 2024.

The Commission strongly encourages electronic filing. Please file scoping comments and motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: White Pine Pumped Storage Project (P-14851-003).

The Commission's Rules of Practice and Procedure require all intervenors filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. Project Description: The proposed White Pine Project would involve constructing the following new facilities: (1) a 5,695-foot-long lined compacted rock-fill dam that would create a 4,082-acre-foot upper reservoir that would be lined with an impermeable polyvinylchloride liner to reduce leakage and would be surrounded by a 10-foot-high wildlife and security fence; (2) a 6,629-foot-long compacted earth-fill embankment dam that would create a 4,241-acre-foot lower reservoir that would be lined with an impermeable liner to reduce leakage and would be surrounded by a 10-foot-high wildlife and security fence; (3) a water conveyance system connecting the upper and lower reservoirs that consists of the following structures: (a) an ungated vertical inlet/outlet bellmouth-type structure located at the bottom of the upper reservoir with a 65-foot-deep conical transition to provide flow into a 20-foot-diameter, 2,260-foot-high reinforced concrete-lined vertical headrace shaft; (b) a 20-foot-diameter, 240-foot-long horizontal steel-lined high-pressure headrace tunnel; (c) three 11-foot-diameter, 134- to- 200-foot-long steel-lined underground penstocks, each with a turbine main inlet valve just upstream of each pump-turbine unit; (d) three 13-foot-diameter, 352- to- 448-foot-long steel-lined draft tube tunnels of, that transition to concrete-lined tunnels of unknown length, downstream of the transformer cavern; (e) a 22-foot-diameter, 7,610-foot-long concrete-lined tailrace tunnel that terminates at the inlet/outlet structure; and (f) an approximately 92.5-foot-wide intake/outlet structure with trashracks, designed as a horizontal fan-shaped diffusor, that extends more than 100 feet from the tailrace tunnel and isolates the lower reservoir from the tailrace tunnel by a pair of 10.5-foot by 25-foot stoplogs in slots extending down from the intake/outlet structure; (4) a 367-foot-long, 83-foot-wide, 191-foot-high underground powerhouse cavern containing three 333-megawatt Francis pump-turbines and three generator-motors; (5) a 300-foot-long, 62-foot-wide, 93-foot-high underground transformer cavern containing three-phase step-up transformers connected to the powerhouse cavern by three busbar tunnels of unknown dimensions; (6) three 345-kilovolt underground circuits connecting from the unit transformers in the transformer cavern through a 4,950-foot-long, 24-foot-diameter, D-shaped cable tunnel to the new switchyard; (7) a 400-foot-long by 370-foot-wide fenced outdoor switchyard where the circuits would be combined into a single 345-kilovolt transmission line; (8) a 25-mile-long, 345 kilovolt overhead transmission line that connects to the grid at the existing NV Energy Robinson Summit substation (the point of interconnection); (9) a 5,108-foot-long 30-foot-diameter, D-shaped shotcrete-lined main access tunnel to provide access to the powerhouse and transformer caverns; (10) six other secondary access tunnels for accessing the transformer and powerhouse caverns (4 tunnels), the tailrace, and the headrace; (11) access roads, including: (a) 4,872-foot-long lower reservoir perimeter road; (c) a 572-foot-long switchyard access road; (d) a 37,300-foot-long, permanent, dual-lane paved upper reservoir access road; (e) a 6,200-foot-long upper reservoir perimeter road; and (f) an unknown number of access roads for transmission line access; (12) a gated, signed, and signaled railroad crossing for construction vehicle traffic across the active Nevada Northern Railway HiLine track; (13) a permanent, approximately 1,005,000-cubic-yard spoil disposal site; (14) an unknown number of temporary explosives storage facilities of unknown dimensions; and (15) appurtenant facilities. A new, alternative upper reservoir access road is being considered that would utilize an approximately 3.5-mile long, permanent, dual-lane paved roadway that would connect the proposed upper reservoir location to White Pine County Road 29 (NV-486), through the Duck Creek Range and across Duck Creek. Additionally, a gated, signed, and signaled railroad crossing for construction vehicle traffic across the currently inactive Nevada Northern Railway Mainline track is also being considered, if the track is reactivated.

The project would also utilize existing portions of unknown lengths of U.S. highway 93 and an existing unimproved, unpaved vehicle track as the proposed western access road, and an unknown number of existing access roads and tracks of unknown length to access the proposed transmission line and temporary explosives storage facilities. Additionally, an unknown number of existing power distribution lines would need to be re-routed and upgraded before construction of the project to avoid impacts as a result of lower reservoir construction and to facilitate crossings at the western access road. Further, an unidentified ridge road of unknown length would need to be rerouted to bypass construction and permanent facilities. NV Energy would also need to design and construct a new bay at the Robinson Summit Substation for the interconnection of the project.

The water used for construction, to initially fill the new lower reservoir, and to provide make-up water would come from a proposed wellfield pumping array composed of four new approximately 800-foot-deep, 14-inch-diameter groundwater wells. Each well would contain a submersible pump capable of continuously producing approximately 1,000 gallons per minute (gpm), resulting in 3,000 gpm for the system and a 1,000-gpm redundant reserve. Each well would connect to an approximately 4-mile-long buried pipeline that would increase from 8-inch to 16-inch-diameter and would connect to the lower reservoir through a buried concrete trench near the crest of the lower reservoir dam. The initial volume of water necessary to fill the lower reservoir is estimated to be 5,000 acre-feet and would be filled over a 12- to 18-month period. It is estimated that the project would need approximately 560 acre-feet of water each year to replenish water lost through seepage, leakage, and evaporation. Once the lower reservoir is filled, approximately 4,082 acre-feet could be cycled between the lower reservoir and upper reservoir each day. A proposed 2,600-foot-deep, 500 gpm well and water conveyance facilities would be constructed near the Duck Creek Range crest and upper reservoir to provide water for construction, hydrogeologic analysis, groundwater monitoring, and initial fill.

The project is designed to generate electricity on demand for up to 8 hours each day at the maximum generating capacity. The estimated annual generation is 2,400 gigawatt-hours per year.

m. A copy of the application can be viewed on the Commission's website at https://www.ferc.gov using the “eLibrary” link. Enter the docket number excluding the last three digits in the docket number field to access the document. For assistance, please contact FERC Online Support (see item j above).

You may also register at https://ferconline.ferc.gov/FERCOnline.aspx to be notified via email of new filings and issuances related to this or other pending projects. For assistance, please contact FERC Online Support (see item j above).

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. The Commission's scoping process will help determine the required level of analysis and satisfy the National Environmental Policy Act (NEPA) scoping requirements, irrespective of whether the Commission issues an environmental assessment or an environmental impact statement.

Scoping Meetings

In addition to written comments solicited by this notice, Commission staff will hold three public scoping meetings at the times and locations noted below. All interested individuals, resource agencies, Native American Tribes, and NGOs are invited to attend any of the meetings to assist Commission staff in identifying the scope of environmental issues that should be analyzed in the NEPA document. The times and locations of these meetings are as follows:

Daytime Scoping Meeting

Date: Tuesday, October 22, 2024.

Time: 9:00 a.m. to 11:00 a.m. PST.

Location: Bristlecone Convention Center.

Address: 150 6th Street, Ely, Nevada 89301.

Evening Scoping Meeting

Date: Tuesday, October 22, 2024.

Time: 7:00 p.m. to 10:00 p.m. PST.

Location: Bristlecone Convention Center.

Address: 150 6th Street, Ely, Nevada 89301.

Scoping Document 1 (SD1), which outlines the subject areas to be addressed in the environmental document, was mailed to the individuals and entities on the Commission's mailing list. Copies of SD1 will be available at the scoping meetings, or may be viewed on the web at http://www.ferc.gov, using the “eLibrary” link. Follow the directions for accessing information in paragraph m.

Environmental Site Review

White Pine and Commission staff will conduct an environmental site review of the project beginning at 8:00 a.m. on Wednesday, October 23, 2024. All interested individuals, resource agencies, Native American Tribes, and NGOs are invited to attend the site review. Attendees are responsible for their own vehicle transport and should wear appropriate outdoor clothing and footwear. The existing road to the upper reservoir site is steep and rocky; therefore, attendees wishing to see the upper reservoir site should plan on driving their own 4x4, high clearance, off-road capable vehicle to access that particular site. Persons planning on participating in the site visit must RSVP to Mr. Gregory Copeland of rPlus Energies at gcopeland@rplusenergies.com or by phone at (801) 759-2223, no later than October 16, 2024, to register for the environmental site review. For administrative purposes, rPlus prefers interested persons to RSVP by email.

Meeting Procedures

Individuals, NGOs, Native American Tribes, and agencies with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix 1 for additional information on the session format and conduct.¹

¹ The appendix referenced in this notice will not appear in the Federal Register. Copies of the appendix were sent to all those receiving this notice in the mail and are available at http://www.ferc.gov using the “eLibrary” link. For assistance, please contact FERC Online Support at FERCOnlineSupport@ferc.gov or call (866) 208-3676 (toll free), or (202) 502-8659 (TTY).

Scoping comments will be recorded by the court reporter and become part of the public record for this proceeding. Transcripts will be publicly available on FERC's eLibrary system. If a significant number of people are interested in providing oral comments in the one-on-one settings, a time limit of 5 minutes may be implemented for each commentor.

It is important to note that the Commission provides equal consideration to all comments received, whether filed in writing or provided orally at a scoping session. Although there will not be a formal presentation, Commission staff will be available throughout the scoping session to answer your questions about the environmental review process. Representatives from White Pine will also be present to answer project-specific questions.

q. Procedural schedule: The application will be processed according to the following anticipated processing schedule. Revisions to the schedule will be made as appropriate. The schedule for issuing draft and final NEPA documents is consistent with the Commission's Notice of Revised Schedule issued November 15, 2023:

Scoping Document 1 Issued—September 2024.

Acceptance and Scoping Notice Issued—September 2024.

Scoping Document 1 Comments Due—November 2024.

Issue Scoping Document 2 (if needed)—December 2024.

Issue Notice of Ready for Environmental Analysis—April 2025.

Comments, Recommendations and Agency Terms and Conditions/Prescriptions Due—June 2025.

Applicant's Reply Comments Due—July 2025.

Commission Issues Draft NEPA Document—January 2026.

Commission Issues Final NEPA Document—July 2026.

Dated: September 23, 2024.
Debbie-Anne A. Reese,
Acting Secretary.

[FR Doc. 2024-22227 Filed 9-26-24; 8:45 am]

BILLING CODE 6717-01-P